DEPARTMENT OF JUSTICE

Bureau of Justice Assistance

[OJP (BJA)-1281]

Announcement of the Availability of the Denial of Federal Benefits for Drug Offenders Program Guide

AGENCY: Office of Justice Programs, Bureau of Justice Assistance, Denial of Federal Benefits Program, Justice.

ACTION: Notice of publication.

SUMMARY: Announcement of the publication of the Denial of Federal Benefits for Drug Offenders Program Guide.

DATES: The Denial of Federal Benefits for Drug Offenders Program Guide will be available after June 30, 2000.

ADDRESSES: Denial of Federal Benefits Program, Bureau of Justice Assistance, Office of Justice Programs, Department of Justice, 810 Seventh St., NW, Washington DC 20531.

FOR FURTHER INFORMATION CONTACT: For a copy of the Denial of Federal Benefits for Drug Offenders Program Guide publication, call Robert T. Watkins, Director, Denial of Federal Benefits Program; Phone: 202-616-3506, [This is not a toll-free number], or visit the website at www.ojp.usdoj.gov/BJA [Click on “BJA Administered Non-Grant Programs”]

SUPPLEMENTARY INFORMATION:

Authority

The Denial of Federal Benefits for Drug Offenders (DFB) Program was established pursuant to section 5301 of the Anti-Drug Abuse Act of 1988 (Section 5301) (Publ. L. 100-690), and codified at 21 U.S.C. 862, and the President's Implementation Plan of August 30, 1989.

Background

The Denial of Federal Benefits for Drug Offenders Program provides Federal and State courts with the discretion to deny all or selected Federal benefits to individuals convicted of drug trafficking or drug possession, for a specified period of time denoted at sentencing. The Program exempts certain benefits from denial such as public housing; welfare; drug treatment; and earned benefits such as retirement; Social Security; health; veterans; and disability. Deniable benefits under the Program include student financial aid; small business loans; media and transportation licenses; medical, engineering, scientific, and academic research grants; along with contracts and purchase orders issued by Federal agencies or those using Federally-appropriated monies. The courts may, at their discretion, restore denied benefits for those who successfully complete drug rehabilitation programs, or for other reasons at the discretion of the court.

The Program Guide

On August 30, 1989 President Bush issued a communication to Congress which authorized and described the procedures for implementation of the Program and restricted the Program's application to convictions occurring on or after September 1, 1989. The Department of Justice was charged by the President with establishing a clearinghouse for all state and Federal courts that notify it of sentences which include a denial of Federal benefits pursuant to section 5301.

General supervision and direction of the Denial of Federal Benefits Program was subsequently delegated by the Attorney General to the Assistant Attorney General for the Office of Justice Programs. In April 1995, the Assistant Attorney General re-delegated the Bureau of Justice Assistance responsibility for the implementation and operation of its Denial of Federal Benefits Program.

This Notice provides guidance and refers to the availability of the Program Guide which is used to implement this Program.

Dated: June 19, 2000.
Nancy Gist,
Director, Bureau of Justice Assistance.

[FR Doc. 00-16830 Filed 7-3-00; 8:45 am]

BILLING CODE 4410-18-P